DEPARTMENT OF LABOR

Employment and Training Administration

Agency Information Collection Activities; Comment Request; Workforce Flexibility (Workflex) Plan Submission and Reporting Requirements

ACTION: Notice.

SUMMARY: The Department of Labor (DOL), Employment and Training Administration is soliciting comments concerning a proposed extension for the authority to conduct the information collection request (ICR) titled, “Workforce Flexibility (Workflex) Plan Submission and Reporting Requirements.” This comment request is part of continuing Departmental efforts to reduce paperwork and respondent burden in accordance with the Paperwork Reduction Act of 1995 (PRA).

DATES: Consideration will be given to all written comments received by January 16, 2018.

ADDRESSES: A copy of this ICR with applicable supporting documentation, including a description of the likely respondents, proposed frequency of response, and estimated total burden, may be obtained free at https://doleta.gov/wioa/State_Plan_Resources.cfm or by contacting Heather Fleck by telephone at 202-693-2956, TTY 877-889-5627 (these are not toll-free numbers), or by email at fleck.heather@dol.gov.

Submit written comments about, or requests for a copy of, this ICR by mail or courier to the U.S. Department of Labor, Employment and Training Administration, Division of WIOA Adult Services and Workforce Systems, U.S. Department of Labor, 200 Constitution Avenue NW., Room S4209, Washington, DC 20210; by email: fleck.heather@dol.gov; or by Fax 202-693-3015.

FOR FURTHER INFORMATION CONTACT: Heather Fleck by telephone at 202-693-2956 (this is not a toll-free number) or by email at fleck.heather@dol.gov.

SUPPLEMENTARY INFORMATION: The DOL, as part of continuing efforts to reduce paperwork and respondent burden, conducts a pre-clearance consultation program to provide the general public and Federal agencies an opportunity to comment on proposed and/or continuing collections of information before submitting them to the OMB for final approval. This program helps to ensure requested data can be provided in the desired format, reporting burden (time and financial resources) is minimized, collection instruments are clearly understood, and the impact of collection requirements can be properly assessed.

Section 190 of the Workforce Innovation and Opportunity Act (WIOA) (Pub. L. 113-128, July 22, 2014) permits states to apply for Workflex waiver authority. The Act and 20 CFR 679.630 provide that the Secretary may grant Workflex waiver authority for up to five years pursuant to a Workflex plan submitted by a state. Under Workflex, governors are granted the authority to approve requests submitted by their local areas to waiver certain statutory and regulatory provisions of WIOA Title I programs. States may also request waivers from the Secretary of certain requirements of the Wagner-Peyser Act (Sections 8-10) as well as certain provisions of the Older Americans Act of 1965 (OAA) (42 U.S.C. 3056d(b)) for state agencies on aging with respect to activities carried out using funds allotted under OAA section 506(b). One of the underlying principles for granting Workflex waivers is that the waivers will result in improved performance outcomes for persons served and that waiver authority will be granted in consideration of improved performance.

This is a continuation of the previous collection instructions request under WIA, and WIOA continues to authorize this information collection.

This information collection is subject to the PRA. A Federal agency generally cannot conduct or sponsor a collection of information, and the public is generally not required to respond to an information collection, unless it is approved by the OMB under the PRA and displays a currently valid OMB Control Number. In addition, notwithstanding any other provisions of law, no person shall generally be subject to penalty for failing to comply with a collection of information that does not display a valid Control Number. See 5 CFR 1320.5(a) and 1320.6.

Interested parties are encouraged to provide comments to the contact shown in the ADDRESSES section. Comments must be written to receive consideration, and they will be summarized and included in the request for OMB approval of the final ICR. In order to help ensure appropriate consideration, comments should mention OMB Number: 1205-0432.

Submitted comments will also be a matter of public record for this ICR and posted on the Internet, without redaction. The DOL encourages commenters not to include personally identifiable information, confidential business data, or other sensitive statements/information in any comments.

The DOL is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: DOL-ETA.

Type of Review: Revision.

Title of Collection: Workflex Plan Submission and Reporting Requirements.

Form: Workforce Flexibility (Workflex) Plan Collection Form.

OMB Control Number: 1205-0432.

Affected Public: State and local governments.

Estimated Number of Respondents: 5.

Frequency: 5 state plans annually; 204 quarterly reports.

Total Estimated Annual Responses: 5 state plans annually; 204 quarterly reports.

Estimated Average Time per Response: 18 hours.

Estimated Total Annual Burden Hours: 210 hours.

Total Estimated Annual Other Cost Burden: $0.

Authority: 44 U.S.C. 3506(c)(2)(A).

Nancy M. Rooney,
Deputy Assistant Secretary for Employment and Training, Labor.

[FR Doc. 2017-24998 Filed 11-16-17; 8:45 am]

BILLING CODE 4510-FN-P